DEPARTMENT OF TRANSPORTATION

Federal Aviation Administration

14 CFR Part 39

[Docket No. FAA-2010-0796; Directorate Identifier 2010-NM-007-AD; Amendment 39-16579; AD 2011-02-06]

RIN 2120-AA64

Airworthiness Directives; The Boeing Company Model 767-300 Series Airplanes

AGENCY: Federal Aviation Administration (FAA), DOT.

ACTION: Final rule.

SUMMARY: We are adopting a new airworthiness directive (AD) for the products listed above. This AD requires repetitive inspections for cracks in the fuselage skin and backup structure at the lower VHF antenna cutout at station 1197 + 99 between stringers 39 left and 39 right, and corrective actions if necessary. Certain repairs terminate certain inspection requirements. This AD was prompted by reports of cracking found in the section 46 fuselage lower skin around the periphery of the VHF antenna baseplate at station 1197 + 99. We are issuing this AD to detect and correct fatigue cracks in the fuselage skin and internal backup structure, which could result in rapid decompression of the airplane.

DATES: This AD is effective March 1, 2011.

The Director of the Federal Register approved the incorporation by reference of a certain publication listed in the AD as of March 1, 2011.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office (ACO), 1601 Lind Avenue, SW., Renton, Washington 98057-3356; telephone 425-917-6577; fax 425-917-6590.

SUPPLEMENTARY INFORMATION:

Discussion

We issued a notice of proposed rulemaking (NPRM) to amend 14 CFR part 39 to include an airworthiness directive (AD) that would apply to the specified products. That NPRM was published in the Federal Register on August 11, 2010 (75 FR 48623). That NPRM proposed to require repetitive inspections for cracks in the fuselage skin and backup structure at the lower VHF antenna cutout at station 1197 + 99 between stringers 39L and 39R, and corrective actions if necessary. Certain repairs proposed by that NPRM would terminate certain inspection requirements.

Comments

We gave the public the opportunity to participate in developing this AD. The following presents the comment received on the proposal and the FAA's response to the comment.

Request To Clarify Compliance Time

Boeing requested that we change the NPRM to explain that the internal detailed inspection may be deferred up to 6,000 flight cycles after the effective date of the AD if no fuselage skin cracks are found during the external detailed inspection. Paragraph (g) of the NPRM referred to Boeing Special Attention Service Bulletin 767-53-0207, dated December 17, 2009 (“the service bulletin”), for the proposed compliance times for the external and internal detailed inspections. The Relevant Service Information section in the NPRM preamble explained that, if no cracks were found during the external detailed inspection, the internal detailed inspection may be deferred “for an additional 6,000 flight cycles.” Boeing stated, however, that this service bulletin instead allows deferral of the internal detailed inspection for a maximum of 6,000 flight cycles after the date on the service bulletin.

We partially agree. We agree that Boeing's suggested change reflects the intent of this service bulletin. Boeing published this revision in Service Bulletin Information Notice 767-53-0207 IN 01, dated July 8, 2010, to clarify a compliance time. We have added new paragraphs (h) and (i) in this final rule to explain the exceptions to this service bulletin's compliance times and to incorporate the information in the information notice. We have re-identified subsequent paragraphs accordingly. We do not agree to correct this information in the Relevant Service Information section of the NPRM because that section is not repeated in a final rule.

Conclusion

We reviewed the relevant data, considered the comment received, and determined that air safety and the public interest require adopting the AD with the changes described previously. We also determined that these changes will not increase the economic burden on any operator or increase the scope of the AD.

Costs of Compliance

We estimate that this AD affects 93 airplanes of U.S. registry. We estimate the following costs to comply with this AD:

Estimated Costs
Action | Work hours | Average labor rate per hour | Cost per product | Number of U.S.- registered airplanes | Fleet cost
Inspections | 3 | $85 | $255 | 93 | $23,715

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-02-06 The Boeing Company: Amendment 39-16579; Docket No. FAA-2010-0796; Directorate Identifier 2010-NM-007-AD.

Effective Date

(a) This AD is effective March 1, 2011.

Affected ADs

(b) None.

Applicability

(c) This AD applies to The Boeing Company Model 767-300 series airplanes, certificated in any category, as identified in Boeing Special Attention Service Bulletin 767-53-0207, dated December 17, 2009.

Subject

(d) Air Transport Association (ATA) of America Code 53: Fuselage.

Unsafe Condition

(e) This AD was prompted by reports of cracking found in the section 46 fuselage lower skin around the periphery of the very high frequency (VHF) antenna baseplate at station 1197 + 99. The Federal Aviation Administration is issuing this AD to detect and correct fatigue cracks in the fuselage skin and internal backup structure, which could result in rapid decompression of the airplane.

Compliance

(f) You are responsible for having the actions required by this AD performed within the compliance times specified, unless the actions have already been done.

Inspections

(g) Inspect for cracks in the fuselage skin and backup structure at the lower VHF antenna cutout at station 1197 + 99, between stringers 39L and 39R, by doing an external detailed inspection, with the antenna removed, of the fuselage structure at the lower aft VHF antenna cutout, and an internal detailed inspection of the backup structure. Do the inspections in accordance with the Accomplishment Instructions of Boeing Special Attention Service Bulletin 767-53-0207, dated December 17, 2009. Do the inspections at the applicable time specified in paragraph 1.E., “Compliance,” of Boeing Special Attention Service Bulletin 767-53-0207, dated December 17, 2009, except as required by paragraphs (h) and (i) of this AD.

(1) If no crack is found, repeat the external detailed inspection, without removing the antenna, at intervals not to exceed 3,000 flight cycles.

(2) If any crack is found in the fuselage skin, repair before further flight, in accordance with Boeing Special Attention Service Bulletin 767-53-0207, dated December 17, 2009. Accomplishment of this repair terminates the repetitive external detailed inspections of the fuselage skin required by this AD.

(3) If any crack is found in the backup structure, before further flight, repair or replace the cracked part(s), in accordance with Boeing Special Attention Service Bulletin 767-53-0207, dated December 17, 2009.

Exceptions to Service Bulletin Specifications

(h) Where Boeing Special Attention Service Bulletin 767-53-0207, dated December 17, 2009, specifies a compliance time after the date on the service bulletin, this AD requires compliance within the specified time after the effective date of this AD.

(i) The internal detailed inspection specified in Boeing Special Attention Service Bulletin 767-53-0207, dated December 17, 2009, and required by paragraph (g) of this AD must be done at the later of the times specified in paragraphs (i)(1) and (i)(2) of this AD.

(1) Before the accumulation of 25,000 total flight cycles.

(2) At the applicable time specified in paragraph (i)(2)(i) or (i)(2)(ii) of this AD.

(i) If any fuselage skin crack is found during the external detailed inspection required by paragraph (g) of this AD: Within 3,000 flight cycles after the effective date of this AD.

(ii) If no fuselage skin crack is found during the external detailed inspection required by paragraph (g) of this AD: Within 6,000 flight cycles after the effective date of this AD.

Alternative Methods of Compliance (AMOCs)

(j)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

Related Information

(k) For more information about this AD, contact Berhane Alazar, Aerospace Engineer, Airframe Branch, ANM-120S, FAA, Seattle ACO, 1601 Lind Avenue, SW., Renton, Washington 98057-3356; phone: 425-917-6577; fax: 425-917-6590; e-mail: berhane.alazar@faa.gov.

Material Incorporated by Reference

(l) You must use Boeing Special Attention Service Bulletin 767-53-0207, dated December 17, 2009, to do the actions required by this AD, unless the AD specifies otherwise.

(1) The Director of the Federal Register approved the incorporation by reference of the service information under 5 U.S.C. 552(a) and 1 CFR part 51.

(2) For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on January 6, 2011.
Ali Bahrami,
Manager, Transport Airplane Directorate, Aircraft Certification Service.

[FR Doc. 2011-462 Filed 1-24-11; 8:45 am]

BILLING CODE 4910-13-P